Proclamation 9068 of December 5, 2013

National Pearl Harbor Remembrance Day, 2013

By the President of the United States of America

A Proclamation

More than seven decades ago, on a calm Sunday morning, our Nation was attacked without warning or provocation. The bombs that fell on the island of Oahu took almost 2,400 American lives, damaged our Pacific Fleet, challenged our resilience, and tested our resolve. On National Pearl Harbor Remembrance Day, we honor the men and women who selflessly sacrificed for our country, and we show our enduring gratitude to all who fought to defend freedom against the forces of tyranny and oppression in the Second World War.

In remembrance of Pearl Harbor and to defend our Nation against future attacks, scores of young Americans enlisted in the United States military. In battle after battle, our troops fought with courage and honor. They took the Pacific theater island by island, and eventually swept through Europe, liberating nations as they progressed. Because of their extraordinary valor, America emerged from this test as we always do—stronger than ever before.

We also celebrate those who served and sacrificed on the home front—from families who grew Victory Gardens or donated to the war effort to women who joined the assembly line alongside workers of every background and realized their own power to build a brighter world. Together, our Greatest Generation overcame the Great Depression, and built the largest middle class and strongest economy in history.

Today, with solemn pride and reverence, let us remember those who fought and died at Pearl Harbor, acknowledge everyone who carried their legacy forward, and reaffirm our commitment to upholding the ideals for which they served.

The Congress, by Public Law 103-308, as amended, has designated December 7 of each year as “National Pearl Harbor Remembrance Day.”

NOW, THEREFORE, I, BARACK OBAMA, President of the United States of America, do hereby proclaim December 7, 2013, as National Pearl Harbor Remembrance Day. I encourage all Americans to observe this solemn day of remembrance and to honor our military, past and present, with appropriate ceremonies and activities. I urge all Federal agencies and interested organizations, groups, and individuals to fly the flag of the United States at half-staff this December 7 in honor of those American patriots who died as a result of their service at Pearl Harbor.

IN WITNESS WHEREOF, I have hereunto set my hand this fifth day of December, in the year of our Lord two thousand thirteen, and of the Independence of the United States of America the two hundred and thirty-eighth.

[FR Doc. 2013-29667

Filed 12-9-13; 11:15 am]

Billing code 3295-F4